FEDERAL COMMUNICATIONS COMMISSION

47 CFR Part 73

[DA 00-865; MM Docket No. 97-106, RM-9044, RM-9741]

Radio Broadcasting Services; Cheyenne, Wyoming and Gering, Nebraska.

AGENCY: Federal Communications Commission.

ACTION: Final rule.

SUMMARY: The Allocations Branch at the request of petitioner, TSB II, Inc. allots Channel 280C2 at Cheyenne as that community's 12th local aural service, substitutes Channel 239C3 for Channel 280C1 at Gering, Nebraska and modifies Station's KOLT-FM license accordingly. See, 62 FR 15870 (April 3, 1997) The Branch determined that a new allotment at Cheyenne was preferable to a counterproposal of two station upgrade and one downgrade. Each channel can be allotted to its respective community in compliance with the Commission's minimum distance separation requirements. The reference coordinates for a Channel 280C2 allotment at Cheyenne, Wyoming, are 41-08-17 North Latitude and 104-48-22 West Longitude. The reference coordinates for Channel 239C3 at Gering, Nebraska are 41-51-50 North Latitude and 103-42-20 West Longitude.

DATES: Effective May 30, 2000.

FOR FURTHER INFORMATION CONTACT: Arthur D. Scrutchins, Mass Media Bureau, (202) 418-2180.

SUPPLEMENTARY INFORMATION: This is a synopsis of the Commission's Report and Order, MM Docket No. 97-106, adopted March 31, 2000, and released April 15, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Wyoming, is amended by adding Channel 280C2 at Cheyenne.

3. Section 73.202(b), the Table of FM Allotments under Nebraska, is amended by removing Channel 280C1 and adding Channel 239C3 at Gering.

Federal Communications Commission.
John A. Karousos,
Chief, Allocations Branch, Policy and Rules Division, Mass Media Bureau.

[FR Doc. 00-12254 Filed 5-15-00; 8:45 am]

BILLING CODE 6712-01-P